ENVIRONMENTAL PROTECTION AGENCY

40 CFR Part 52

[EPA-R05-OAR-2023-0482; FRL-11618-01-R5]

Air Plan Approval; Indiana; Lake and Porter 2008 Ozone NAAQS Maintenance Plan Revision

AGENCY: Environmental Protection Agency (EPA).

ACTION: Proposed rule.

SUMMARY: The Environmental Protection Agency (EPA) is proposing to approve Indiana's September 21, 2023, state implementation plan (SIP) submission which revises the 2008 ozone maintenance plan for the Indiana Portion (Lake and Porter Counties) of the Chicago Naperville, IL-IN-WI area. This SIP submission updates onroad vehicle emissions inventories for oxides of nitrogen (NOX) and volatile organic compounds (VOC) for the years 2019, 2030 and 2035. In addition to updated emissions inventories, this SIP revision updates the Motor Vehicle Emissions Budgets (budgets) for NOX and VOC for the years 2030 and 2035. EPA is proposing to approve the allocation of a portion of the safety margins for NOX and VOC in the ozone maintenance plan to the 2030 and 2035 budgets. Total year 2030 and 2035 emissions of NOX and VOC for the area will remain below the attainment level required by the transportation conformity regulations.

DATES: Comments must be received on or before February 20, 2024.

ADDRESSES: Submit your comments, identified by Docket ID No. EPA-R05-OAR-2023-0482 at https://www.regulations.gov or via email to leslie.michael@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Emily Crispell, Control Strategies Section, Air Programs Branch (AR-18J), Environmental Protection Agency, Region 5, 77 West Jackson Boulevard, Chicago, Illinois 60604, (312) 353-8512, crispell.emily@epa.gov. The EPA Region 5 office is open from 8:30 a.m. to 4:30 p.m., Monday through Friday, excluding Federal holidays and facility closures due to COVID-19.

SUPPLEMENTARY INFORMATION: In the Rules and Regulations section of this issue of the Federal Register, EPA is approving the state's SIP submittal as a direct final rule without prior proposal because the Agency views this as a noncontroversial submittal and anticipates no adverse comments. A detailed rationale for the approval is set forth in the direct final rule. If no relevant adverse comments are received in response to this rule, no further activity is contemplated. If EPA receives such comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this issue of the Federal Register.

Dated: January 10, 2024.
Debra Shore,
Regional Administrator, Region 5.

[FR Doc. 2024-00789 Filed 1-18-24; 8:45 am]

BILLING CODE 6560-50-P